DEPARTMENT OF AGRICULTURE

Forest Service

Special Use Permit for Helicopter Skiing

AGENCY: Forest Service, USDA.

ACTION: Notice of Intent (NOI) to prepare an Environmental Impact Statement (EIS).

SUMMARY: High Mountains Heli-Skiing, holder of a Special Use Permit to conduct guided helicopter skiing on portions of the Caribou-Targhee and Bridger-Teton National Forests has requested issuance of a new 5-year priority Special Use Permit for 1,500 annual user days. On April 26, 2002, the Department of Agriculture, Forest Service issued a public scoping statement to prepare an Environmental Assessment to analyze issuing a new 5-year special use permit.

The April 26, 2002 scoping statement described the “Purpose and Need” for the Special Use Permit to be issued, environmental issues considered, estimated dates for completing an Environmental Assessment, information concerning public participation, and the names and addresses of the agency officials who can provide additional information. The purpose of the scoping statement was to begin the scoping phase of public involvement in the National Environmental Policy Act process, with a due date for comments of May 28, 2002. Based on comments received on the initial scoping statement and the level of public interest the Forest Service now considers an EIS to be the appropriate level of disclosure.

DATES: To be most useful for early identification of issues, comments concerning scope of the analysis should be received in writing or postmarked by July 16, 2002.

ADDRESSES: Send written comments to: Nancy Hall, Jackson District Ranger, Bridger-Teton National Forest, P.O. Box 1689, Jackson WY, 83001.

FOR FURTHER INFORMATION CONTACT: Ray Spencer, Interdisciplinary Team Leader, Jackson Ranger District, Bridger Teton National Forest (307) 739-5400.

Responsible Official: District Ranger Jackson Ranger District, Bridger-Teton National Forest.

SUPPLEMENTARY INFORMATION: The Jackson Ranger District of the Bridger-Teton National Forest has received a request from High Mountains Heli-Skiing (HMHS) to issue a 5-year Special Use Permit that authorizes them to conduct a guided helicopter skiing business on National Forest System lands within portions of the Bridger-Teton (BTNF) and Caribout-Targhee National Forests (CTNF). The Forest Service is considering issuing this permit to retain heli-skiing as part of the range of quality recreational opportunities offered on the BTNF and CTNF. Actual skiing takes place on steep mountain slopes with minimal amounts of ledges, rock, or other exposed hazards. These areas are generally sparsely vegetated or non-forested ridges and slopes that have accumulated snow levels, but are within acceptable limits for avalanche danger. Areas with dense vegetation exposed above the snow or that are heavily forested are not usually selected for heli-sking activities. Elevations of drop-off areas at the top are usually between 9,000 and 10,000 feet. Pick-up areas at the bottom are generally between 6,500 and 7,500 feet in elevation. Approximately 65 primary landing zones would be used for dropping off skiers and another 20 primary landing zones may be used for picking up skiers. The number and locations of landing zones used for drop-offs may change considerably each day depending on snow and weather conditions. However, the pick-up areas are used more frequently and generally do not change.

The Forest Service believes that the appropirate level of analysis for this proposal at this point is an EIS under provisions of the National Environmental Policy Act. In addition to the Proposed Action and the required No Action alternative, the Jackson Ranger District has identified several other alternatives in response to identified issues.

These include:

• No helicopter skiing in the Palisades Wilderness Study Area;

• Issuing the permit for 468 user days; and

• Issuing a permit for 800 user days but limiting the permittee to the use of one helicopter at a time.

The authority for issuance of this permit is Title 36, Code of Federal Regulations, Part 251 Subpart B (36 CFR 251.50). The deciding agency official in this matter is the District Ranger, Jackson Ranger District, Bridger-Teton National Forest.

The current permit for this activity is for 468 service days. During recent seasons, the permittee has requested additional service days that were usually granted on a case-by-case basis. The highest number of service days authorized for use during the 1999-2000 season was 968, of which 903 service days were actually used. The average annual service days used during the last five years was 686. The operational season is from December 15 through April 15 annually.

Purpose and Need

National forest policy and Forest Land Management Plans for the BTNF and CTNF provide direction to Forest Service permit administrators regarding outfitter and guide operations on National Forest System lands. Based on this direction, Forest Service goals are to provide outfitting and guiding activities that ensure that visitors receive high quality services in a manner that promotes safe and environmentally responsible use. National direction recognizes outfitter guides as valuable recreation service providers, who help the agency meet its public service mission. Outfitting and guiding provide a small fraction of the total visitor days experienced on the National Forests, but the services provided are important to the visitor, the agency, the resources, and the economies of the communities where outfitters are based.

Heli-skiing has been a part of the recreational program of the Forest Service at this general location for over 26 years. This activity requires an outfitter-guide Special Use Permit that has a maximum term of 5 years. The current permit for this activity expires on December 15, 2002. To retain guided heli-skiing as part of the recreational opportunities offered to visitors on the BTNF and CTNF, an environmental analysis must be conducted to determine whether or not to issue a permit and if so, what is the appropriate level and area of use.

The proponent is interested in continuing this guided service into the future and has requested that the Special Use Permit be issued with modifications so that they may continue operation. The process of making a decision on this request will result in preparation of a Record of Decision based on the content of an EIS and associated reports and analyses. If the EIS and related processes are not completed by December 15, 2002, a temporary permit would be issued for this activity to continue under provisions and conditions of the existing permit.

Proposed Action

The Forest Service is proposing to issue a Special Use Permit that allows the operation of helicopter-skiing guide services to continue using portions of the Jackson and Greys River Ranger Districts on the Bridger-Teton National Forest and the Palisades Ranger District on the Caribou-Targhee National Forests that are not closed to this type of use as depicted on a map available at the Jackson Ranger District. The area traditionally used for activity under the proposed action includes portions of the Teton Mountain Range south of Teton Village to Phillips Canyon, the Snake River Range south of Mosquito Creek, the Palisades Range, the Gros Ventre Range on the south side of Cache Creek, and the Wyoming Range from Bradley Mountain to Ramshorn Peak, south to Greys River. Although heli-skiing activity is generally concentrated within a 90 square mile area, the proposed permit boundary includes approximately 475 square miles. A relatively large area is needed in order to accommodate various seasons and snow conditions and to allow flexibility to avoid impacts to resources and other recreationists.

The proposal is to issue a special use permit that authorizes 1,500 service days.

Decision To Be Made

The Forest Service will determine what the capacity and the appropriate level of use will be for the Special Use Permit area based on analyses provided in the EIS. The decision to be made is whether to issue the requested 5-year Special Use Permit for 1,500 annual service days, approve a modified version of the request, or deny the request for helicopter skiing within the proposed project area. The decision will, at a minimum, address the following questions:

1. Will the Proposed Action be implemented as proposed, as modified by an alternative or option, or not at all?

2. What mitigation measures and monitoring requirements will the Forest Service apply to the operations?

3. Does the project require a Forest Plan amendment?

Previous and Current Public Involvement History

A scoping notice that identified the Forest Service's intention of issuing a permit for continuing the heli-skiing services was mailed to interested public and agencies on November 9, 2001. Numerous comments were received regarding the issuance of a Special Use Permit for heli-skiing. Since that notice was provided to the public, the Forest Service refined and amassed more information regarding this proposal. Subsequently the Forest Service determined that additional public scoping comments would be helpful in reviewing and analyzing this proposal. Consequently, a second scoping notice was provided to interested parties on April 26, 2002. As a result of comments received from the April 26, 2002 notice, the Forest Service determined that the appropriate level of analysis for this proposal should be in the form of an EIS. If any of those who provided comments to the scoping notices sent out on November 9, 2001 or April 26, 2002 wish to supplement their earlier comments or make new ones, they are encouraged to do so. If one elects not to supplement those earlier comments, the Forest Service will retain the previous comments for use in the ongoing scoping and analysis processes. Once the analysis is completed, those who participated earlier, as well as those who provide new comments, will be given the opportunity to review the Draft EIS and render comments on that document.

Interested agencies and the public are invited to participate in this scoping by relaying in writing to the Forest Service any concerns, interests, and issues that need to be addressed in the disclosure and analysis phase of the EIS process. After release of the Draft EIS for review, comments on the adequacy and merit of the disclosures can be submitted to the Forest Service. A preferred alternative will also be identified at this time. Responses to those comments will be incorporated into the Final EIS and a Record of Decision will be written and signed. Comments regarding the scope of the analysis and the issues that should be addressed in the Draft EIS may be sent to: High Mountain Heli-Skiing Special Use Permit, c/o Nancy Hall, Jackson Ranger District, PO Box 1689, Jackson, WY 83001.

A scoping notice for this project will be posted on the Bridger-Teton National Forest website at http://www.fs.fed.us/btnf. For more information please call Ray Spencer at (307) 739-5400.

While scoping continues through the final decision point in the process, it would be appreciated if comments on this NOI and/or the solicitation for scoping comments were postmarked no later than July 16, 2002.

This notice is part of an effort by the Forest Service to seek additional scoping information, comments, and assistance from Federal, State, and local agencies, as well as other individuals or groups who may be interested or affected by the Proposed Action. Public responses will become part of the public record for this process and will be used and disclosed in the EIS and related documents and will be available for public inspection. Persons may request the agency to withhold a submission from the public record by showing how the Freedom of Information Act permits such confidentiality pursuant to 7 CFR 1.27(d). All applicable Federal, State, and county permits and licenses required by a decision will be obtained prior to implementation.

Issues

The following is a preliminary list of issues identified by the ID Team. Other issues raised during public involvement will also be discussed in this EIS. The preliminary issues include:

1. Impacts of the project on wilderness study area values;

2. Effects of helicopter noise on dispersed winter recreation;

3. Effects of helicopter noise on wildlife, specifically elk and moose;

4. Water Quality effects from potential fuel spills;

5. Socioeconomic effects;

6. Impacts of wildlife resources including Threatened, Endangered, Proposed and Forest Sensitive species; and

7. Impacts to outfitter—guide operations.

Decision Framework

The District Ranger of the Jackson Ranger District will decide whether or not to issue a permit for helicopter skiing and if so what terms and conditions will be included in the permit.

Public Involvement Process

Public participation is especially important at several points during the analysis, particularly during initial scoping and review of the Draft EIS. Individuals, organizations, federal, state, and local agencies who are interested in or affected by the decision are invited to participate in the scoping process. This information will be used in the preparation of the Draft EIS.

The second major opportunity for public input is during the review of the Draft EIS. The Draft EIS will be filed with the EPA (Environmental Protection Agency) and will be available for public review in July 2002. At that time the EPA will publish a notice of availability of the Draft EIS in the Federal Register. The comment period on the Draft EIS will be 45 days from the date the EPA's notice of availability appears in the Federal Register. It is very important that those interested in this proposed action participate at that time. To be the most helpful, comments on the Draft EIS should be as specific as possible and may address the adequacy of the statement or the merits of the alternatives discussed (Reviewers may wish to refer to the Council on Environmental Quality Regulations for implementing the procedural provisions of the National Environmental Policy Act at 40 CFR 1503.3 in addressing these points). The Forest Service believes, at this early stage, it is important to give reviewers notice of several federal court rulings related to public participation in the environmental review process.

First, reviewers of Draft EISs must structure their participation in the environmental review of the proposal so that it is meaningful and alerts an agency to the reviewer's position and contentions. Vermont Yankee Nuclear Power Corp. v. NRDC, 435 U.S. 519, 533 (1978). Also, environmental objections that could be raised at the Draft EIS stage, but that are not raised until after completion of the final EIS, may be waived or dismissed by the courts. City of Angoon v. Hodel, (9th Circuit, 1986) and Wisconsin Heritages, Inc v. Harris, 490 F.Supp. 1334, 1338 (E.D. Wis, 1980). Because of these courts rulings, it is very important that those interested in this proposed action participate by the close of the 45-day comment period so that substantive comments and objections are made available to the Forest Service at a time when it can meaningfully consider them and respond to them in the final EIS.

To assist the Forest Service in identifying and considering issues and concerns on the proposed action, comments on the Draft EIS should be as specific as possible. It is also helpful if comments refer to specific pages or chapters of the draft statement. Comments may also address the adequacy of the Draft EIS or the merits of the alternates formulated and discussed in the statement. Reviewers may wish to refer to the Council on Environmental Quality Regulations for implementing the procedural provisions of the National Environmental Policy Act at 40 CFR 1503.3 in addressing these points.

After the comment period ends on the Draft EIS, the comments will be analyzed and considered in preparing the Final EIS. The Final EIS is scheduled for completion in November 2002.

Note: The U.S. Department of Agriculture (USDA) prohibits discrimination in all its programs and activities on the basis of race, color, national origin, sex, religion, age, disability, political beliefs, sexual orientation, or marital or family status. (Not all prohibited bases apply to all programs.) Persons with disabilities who require alternative means for communication of program information (Braille, large print, audio tape, etc.) should contact USDA=s TARGET Center at 202-720-2600 (voice and TDD). To file a complaint of discrimination, write USDA, Director, Office of Civil Rights, Room 326-W, Whitten Building, 1400 Independence Avenue, SW, Washington, D.C. 20250-9410 or call 202-720-5964 (voice and TCC). USDA is an equal opportunity provider and employer.

Dated: June 5, 2002.
Stanley G. Sylva,
Acting Forest Supervisor, Bridger-Teton National Forest.

[FR Doc. 02-14578 Filed 6-10-02; 8:45 am]

BILLING CODE 3410-11-M